DEPARTMENT OF COMMERCE

National Oceanic and Atmospheric Administration

50 CFR Part 660

[Docket No. 060824226-6322-02]

RIN 0648-AW07

Magnuson-Stevens Act Provisions; Fisheries Off West Coast States; Pacific Coast Groundfish Fishery; Biennial Specifications and Management Measures; Inseason Adjustments

AGENCY: National Marine Fisheries Service (NMFS), National Oceanic and Atmospheric Administration (NOAA), Commerce.

ACTION: Final rule; inseason adjustments to groundfish management measures; request for comments.

SUMMARY: This final rule announces inseason changes to management measures in the commercial and recreational Pacific Coast groundfish fisheries and the reopening of the 2007 Pacific whiting primary season. These actions, which are authorized by the Pacific Coast Groundfish Fishery Management Plan (FMP), are intended to allow fisheries to access more abundant groundfish stocks while protecting overfished and depleted stocks.

DATES: Effective 0001 hours (local time) October 1, 2007. Comments on this final rule must be received no later than 5 p.m., local time on November 5, 2007.

ADDRESSES: You may submit comments, identified by RIN 0648-AW07 by any one of the following methods:

• Electronic Submissions: Submit all electronic public comments via the Federal eRulemaking Portal http://www.regulations.gov.

• Fax: 206-526-6736, Attn: Gretchen Arentzen

• Mail: D. Robert Lohn, Administrator, Northwest Region, NMFS, 7600 Sand Point Way NE, Seattle, WA 98115-0070, Attn: Gretchen Arentzen.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Gretchen Arentzen (Northwest Region, NMFS), phone: 206-526-6147, fax: 206-526-6736 and e-mail gretchen.arentzen@noaa.gov.

SUPPLEMENTARY INFORMATION:

Electronic Access

This final rule is accessible via the Internet at the Office of the Federal Register′s Website at http://www.gpoaccess.gov/fr/index.html. Background information and documents are available at the Pacific Fishery Management Council′s (Council′s) website at http://www.pcouncil.org/.

Background

The Pacific Coast Groundfish FMP and its implementing regulations at title 50 in the Code of Federal Regulations (CFR), part 660, subpart G, regulate fishing for over 90 species of groundfish off the coasts of Washington, Oregon, and California. Groundfish specifications and management measures are developed by the Pacific Fishery Management Council (Council), and are implemented by NMFS. A proposed rule to implement the 2007-2008 specifications and management measures for the Pacific Coast groundfish fishery and Amendment 16-4 of the FMP was published on September 29, 2006 (71 FR 57764). The final rule to implement the 2007-2008 specifications and management measures for the Pacific Coast Groundfish Fishery was published on December 29, 2006 (71 FR 78638). These specifications and management measures were codified in the CFR (50 CFR part 660, subpart G). The final rule was subsequently amended on: March 20, 2007 (71 FR 13043); April 18, 2007 (72 FR 19390); July 5, 2007 (72 FR 36617); August 3, 2007 (72 FR 43193); and September 18, 2007 (72 FR 53165).

Changes to current groundfish management measures implemented by this action were recommended by the Council, in consultation with Pacific Coast Treaty Indian Tribes and the States of Washington, Oregon, and California, at its September 10-14, 2007, meeting in Portland, Oregon. At that meeting, the Pacific Council recommended adjusting current groundfish management measures to respond to updated fishery information and other inseason management needs.

The Pacific Council recommended: (1) increasing the 2-month cumulative limit in the limited entry fixed gear fishery for shortspine thornyheads south of 34°27′ N. lat.; (2) prohibiting retention of cabezon by recreational ocean boat anglers in Federal waters off Oregon; (3) closing the Federal recreational fishing season for rockfish, cabezon, greenlings, and lingcod from 42° N. lat. to 37°11′ N. lat.; (4) adjust the shoreward boundary of the limited entry non-whiting trawl RCA to a line approximating the 75-fm (137-m) depth contour North of Cape Alava (48°10′ N. lat.) and between Humbug Mountain (43°20.83′ N. lat.) and Cape Arago (42°40.50′ N. lat.); (5) increasing coastwide sablefish limits for large and small footrope trawl gear; (6) increasing longspine thornyhead limits south of 40°10′ N. lat. for large and small footrope trawl gear; (7) increasing shortspine thornyhead limits coastwide for large and small footrope trawl gear; (8) increasing coastwide Dover sole limits for large and small footrope trawl gear; (9) increasing coastwide other flatfish limits for large and small footrope trawl gear; (10) increasing petrale sole limits north of 40°10′ N. lat. for large and small footrope trawl gear; (11) increasing slope rockfish limits for limited entry trawl gear south of 38° N. lat.; (12) increasing the 2007 non-tribal whiting widow rockfish bycatch limit from 220 mt to 275 mt, and (13) re-opening the 2007 non-tribal whiting primary season for the catcher-processor, mothership, and shore-based sectors.

NMFS has considered these recommendations, and is implementing them as described below. Pacific Coast groundfish landings will be monitored throughout the remainder of the year, and further adjustments to trip limits or management measures may be made as necessary to allow achievement of, or to avoid exceeding, optimum yields (OYs).

Limited Entry Fixed Gear Trip Limits South of 40°10′ N. Lat.

As of May 31, 2007, the total shortspine thornyhead landings south of 34°27′ N. lat. were estimated to be 60.6 mt out of a 421-mt OY. In June 2007, the Council recommended a short term increase in shortspine thornyhead cumulative limits south of 34°27′ N. lat.. The Council considered that increases in effort in this area could result in higher incidental catches of sablefish and other species; however, estimates at that time showed that sablefish catches in this area were lower than they had been predicted to be at the beginning of the year. To balance the potential impacts on sablefish from a possible effort shift and the larger amount of shortspine thornyheads available for harvest, the shortspine thornyhead cumulative limits south of 34°27′ N. lat. were increased during Period 4 (July-August), and reverted back to the lower limits for Periods 5 and 6 (September-October and November-December, respectively).

At its September meeting, the Council considered further adjustments to shortspine thornyhead cumulative limits based on more recently available fishery data. Period 4 increases in the shortspine thornyhead cumulative limit did not result in a large effort shift, and only slightly increased the catch rate in this area. As of September 15, 2007, the total shortspine thornyhead landings south of 34°27′ N. lat. were estimated to be 87 mt out of a 421-mt OY. The Council considered continuing the Period 4 increases to the shortspine thornyhead cumulative limit south of 34°27′ N. lat. through the end of the year. Estimates show that sablefish catches in this area are lower than they had been predicted to be at the beginning of the year, and that maintaining the higher shortspine thornyhead cumulative limit would not exceed the 2007 sablefish 211-mt OY in this area. Shortspine thornyheads are a slope rockfish species and the overfished species south of 36° N. lat. are shelf species, so no increased impacts on overfished species are expected to occur as a result of increasing shortspine thornyhead trip limits.

Therefore, the Council recommended, and NMFS is implementing the following changes for the limited entry fixed gear fishery: (1) South of 34°27′ N. lat., increase the shortspine thornyhead limits from 2,000 lb (907 kg) per 2 months to 3,000 lb (1,361 kg) per 2 months, beginning October 1.

Recreational Fishery Management Measures

Oregon Recreational Fishery

In the Oregon recreational groundfish fishery, the Oregon Department of Fish and Wildlife (ODFW) manages cabezon, which is harvested primarily in state waters, under a state harvest limit. Oregon recreational catch estimates through July and projections from historical temporal catch patterns indicate that the Oregon state harvest limit for cabezon of 15.8 mt has been reached. State harvest limits apply to landings by recreational ocean boats and do not include shore catch and discards. State harvest limits are subset of Federal limits; the 2007 cabezon OY is 69 mt. Effective August 11, 2007, Oregon prohibited cabezon retention in the recreational ocean and estuary boat fisheries. Shore fisheries, including shore-based diving, angling and spear fishing, were not affected by this closure. A similar closure was implemented by ODFW for cabezon in 2006, on September 22, 2006. Landings data updated later in the year confirmed that the management measure was appropriate; cabezon landings were 14.9 mt, or 94 percent of the 2006 state harvest limit.

Therefore, in order to conform recreational management measures for Federal waters (3 200 nm) to management measures for Oregon state waters (0 3 nm), the Pacific Council recommended and NMFS is implementing a prohibition on the retention of cabezon by ocean boat anglers off Oregon in Federal recreational regulations beginning October 1.

California Recreational Fishery

In the California recreational groundfish fishery, the California Department of Fish and Game (CDFG) manages yelloweye, canary, and minor nearshore rockfish under state harvest limits. California recreational catch estimates through July and projections based on recent catch patterns indicate that the California state harvest limit for yelloweye, canary, and minor nearshore rockfish, which are 2.1 mt, 9 mt, and 426 mt, respectively, are projected to be exceeded. California projected that without taking inseason action, the total 2007 mortality from the California recreational fishery would be: 8.4 mt yelloweye rockfish; 12.3 mt canary rockfish; and 564 mt minor nearshore rockfish. Updates were made to catch and effort estimation methodologies to incorporate the most recent catch and effort data, which indicates higher than previously expected catches have occurred in the 2007 recreational fishery off California. Original projections for California coastwide catches of yelloweye rockfish in May and June were too low, and higher than expected catches of yelloweye rockfish also occurred in July north of 37°11′ N. lat. (Pigeon Point, CA) to the California-Oregon border at 42 N. lat.. Both of these factors have contributed to increased catch projections for the 2007 season, and without inseason action the California recreational catch of yelloweye rockfish, in combination with all other coastwide recreational and commercial fishery impacts, would exceed the 2007 yelloweye rockfish OY. State harvest limits apply to landings by recreational ocean boats and do not include shore catch and discards. To reduce recreational fishery impacts on yelloweye and canary rockfish, California will close the recreational boat-based fisheries north of 37°11′ N. lat. for all Federal groundfish species subject to bag limits in that area, effective October 1, 2007. Projections indicate that closure of the California recreational fishery north of 37°11′ N. lat. will reduce the impacts on yelloweye rockfish and canary rockfish, and keep the mortality of yelloweye rockfish within the 2007 OY. California projected that taking inseason action to close recreational fishing from 42° N. lat. to 37°11′ N. lat. would reduce the total mortality from the California recreational fishery to: 7.2 mt yelloweye rockfish; 10.1 mt canary rockfish; and 523 mt minor nearshore rockfish. Shore fisheries, including shore-based diving, angling and spear fishing, were not affected by this closure, nor were fisheries not subject to bag limits.

Therefore, in order to conform recreational management measures for Federal waters (3 200 nm) to management measures for California state waters (0 3 nm), the Pacific Council recommended and NMFS is implementing a closure of the Federal recreational fishing season for rockfish, cabezon, greenlings, and lingcod from 42° N. lat. to 37°11′ N. lat. beginning October 1.

Limited Entry Trawl Fishery Management Measures

Catch of canary rockfish by research vessels is lower than projected for 2007. Earlier in the year, an advisory body to the Pacific Council, the Groundfish Management Team (GMT), had projected 7.7 mt of canary rockfish would be taken as 2007 research catch in their bycatch scorecard. The bycatch scorecard is a tool used by the GMT to track estimated and projected total mortality of overfished species for the year. The 7.7 mt of canary rockfish projected earlier this year to be taken in 2007 scientific research consisted of 7.3 mt from the NMFS trawl survey and 0.4 mt from other research. The projected catch of 7.3 mt for the NMFS trawl survey is equivalent to the total 2006 catch of canary rockfish in this survey; however, in 2001-2005 no more than 2.3 mt of canary rockfish was taken per year in this survey. Based on preliminary information received from the NMFS trawl survey research vessels on September 10, 2007, the total 2007 research catch for the trawl survey is predicted to be 3.3 mt; therefore, the GMT reduced the total projected 2007 research catch value in the bycatch scorecard from 7.7 mt to 3.7 mt of canary rockfish (3.3 mt from the NMFS triennial trawl survey and 0.4 mt from other research). At the time of the update, the NMFS trawl survey was complete in almost all of the areas where high catch of canary rockfish occurred in 2006, and no high canary rockfish catches have occurred thus far. The updated value NMFS researchers provided to the GMT included expected catches for the remainder of the 2007 survey. The reduction in the expected amount of canary rockfish caught by research vessels, and the decrease in the expected amount of canary rockfish caught in California recreational fisheries due to recreational closures in the North and North Central regions, is projected to result in a lower total estimated canary rockfish mortality of 40.4 mt out of a 44-mt OY.

Non-whiting Limited Entry Trawl Fishery

The Council received a request to consider adjusting the shoreward boundary of the limited entry non-whiting trawl rockfish conservation area (RCA) to open the areas shoreward of a line approximating the 75-fm (137-m) depth contour North of Cape Alava (48°10′ N. lat.) and between Humbug Mountain (43°20.83′ N. lat.) and Cape Arago (42°40.50′ N. lat.). These shoreward areas were closed on April 18, 2007 (72 FR 19390) by moving the shoreward boundary of the RCA from a line approximating the 75-fm (137-m) depth contour to the shore to keep canary rockfish within the 2007 canary rockfish OY. With the lower than expected catch of canary rockfish by research vessels and lowered impacts on canary rockfish due to closure of the California recreational fishery from 42° N. lat. to 37°11′ N. lat., the Council considered the impacts of adjusting the shoreward RCA boundary and providing fishing opportunity in areas that had been closed earlier in the year to protect canary rockfish. Based on the most recently available data from the trawl fishery, reopening these areas would take an additional 1.7 mt of canary rockfish but would not be expected to increase impacts to any other overfished species.

The Council also considered adjustments to trip limits in the limited entry non-whiting trawl fishery. At the September meeting, the GMT reviewed the best available data on estimates of landed catch and total mortality for the limited entry trawl fishery. These data, which which estimated catch through the end of July, were compared to catch and mortality estimates modeled for the trawl fishery and were used to update catch predictions through the end of the year. Based on the Pacific Fishery Information Network′s (PacFIN′s) Quota Species Monitoring(QSM) data, groundfish landed catch and total mortality data were lower than expected for all target species taken with large and small footrope trawl gear in the non-whiting trawl fishery. These species include: sablefish; longspine and shortspine thornyheads; Dover sole; other flatfish; petrale sole; and slope rockfish species. The Council considered increases to trip limits for these species and the potential impacts on overall catch levels and overfished species.

The most recently updated catch projections for 2007 indicate that the following percentages of groundfish species or species groups are expected to be taken through the end of the year: 81 percent (2,138 mt out of 2,651 mt) of the trawl allocation of sablefish north of 36°; 37 percent (827 mt out of 2,220 mt) of the longspine thornyhead OY north of 34°27′ N. lat.; 52 percent (853 mt out of 1,634 mt) of the coastwide shortspine thornyhead OY; 58 percent (9,595 mt out of 16,500 mt) of the coastwide Dover sole OY; 62 percent (3,599 mt out of 5,800 mt) of the coastwide arrowtooth flounder OY; 94 percent (2,356 mt out of 2,499 mt) of the coastwide petrale sole OY; 31 percent (1,510 mt out of 4,884 mt) of the coastwide other flatfish OY, and; 16 percent (286 mt out of 1,786 mt) of the minor slope rockfish OY south of 38 N. lat.. These projections are below the anticipated catch projections through the end of 2007, and continuing the trawl fishery under these limits is projected to prevent the fishery from attaining the OYs for these species. Increases to cumulative limits are expected to increase overall catch levels, but those increases are predicted to be within the 2007 OYs for these species. Increased catch levels for these species will increase the canary rockfish catch in the limited entry non-whiting trawl fishery by 0.3 mt, but are not expected to result in greater than projected impacts on other overfished species. Yelloweye rockfish, impacts to which are of concern in hook-and-line fisheries like the California recreational fishery, are rarely taken in trawl fisheries.

Therefore, the Council recommended and NMFS is implementing the following changes for the limited entry trawl fishery through the end of the year, beginning October 1 unless otherwise specified: (1) Adjust the shoreward boundary of the limited entry non-whiting trawl RCA to a line approximating the 75-fm (137-m) depth contour North of Cape Alava (48°10′ N. lat.) and between Humbug Mountain (43°20.83′ N. lat.) and Cape Arago (42°40.50′ N. lat.); (2) increase coastwide sablefish limits for large and small footrope trawl gear to 22,000 lb (9,979 kg) per 2 months; (3) increase longspine thornyhead limits south of 40°10′ N. lat. for large and small footrope trawl gear from 22,000 lb (9,979 kg) per 2 months to 25,000 lb (11,340 kg) per 2 months; (4) increase shortspine thornyhead limits north of 40°10′ N. lat. for large and small footrope trawl gear from 10,000 lb (4,536 kg) per 2 months to 12,000 lb (5,443 kg) per 2 months; (5) increase shortspine thornyhead limits south of 40°10′ N. lat. for large and small footrope trawl gear from 7,500 lb (3,402 kg) per 2 months to 13,000 lb (5,896 kg) per 2 months; (6) increase Dover sole limits for large and small footrope trawl gear from 60,000 lb (27,216 kg) north of 40°10′ N. lat. and 80,000 lb (36,287 kg) south of 40°10′ N. lat. to 95,000 lb (43,091 kg) per 2 months coastwide; (7) increase coastwide other flatfish limits for large and small footrope trawl gear from 110,000 lb (49,895 kg) to 150,000 lb (68,039 kg) per 2 months; (8) increase petrale sole limits north of 40°10′ N. lat. for large and small footrope trawl gear from 30,000 lb (13,608 kg) per 2 months to 40,000 lb (18,143 kg) per 2 months beginning in Period 6, and; (9) increase slope rockfish limits for limited entry trawl gear south of 38° N. lat. from 40,000 lb (18,143 kg) per 2 months to 55,000 lb (36,287 kg) per 2 months.

Limited Entry Trawl Whiting Fishery

The 2007 Pacific whiting (whiting) primary season closed for the catcher-processor, mothership and shore-based sectors on July 26, 2007 (72 FR 46176) when estimates indicated that the bycatch limit for widow rockfish had been reached. The limited availability of overfished species that can be taken as incidental catch in the whiting fisheries, particularly canary, darkblotched and widow rockfish, led to NMFS implementing bycatch limits for those species. With bycatch limits, the industry has the opportunity to harvest a larger whiting OY, providing the incidental catch of overfished species does not exceed the adopted bycatch limits. If a bycatch limit is reached, all non-tribal sectors of the whiting fishery are closed for the remainder of the year. For 2007, the following bycatch limits were specified for the non-tribal whiting sectors: 4.7 mt for canary rockfish, 25 mt for darkblotched rockfish and 220 mt for widow rockfish.

The best available information on July 25, 2007, indicated that 220.7 mt of widow rockfish had been taken in the non-tribal whiting fisheries in 2007. Accordingly, the primary seasons for the catcher-processor sector, mothership sector and the shore-based sectors were closed at 1800 l.t. July 26, 2007. Data corrections were made and some additional data were incorporated into the catch estimates after the closure, and estimates from September 10, 2007 indicate the non-tribal fishery took: 158,036 mt of the 208,091 mt of whiting available to the non-tribal fishery, 241.6 mt of widow rockfish, 4 mt of canary rockfish, and 12.8 mt of darkblotched rockfish.

At its September meeting, the Council considered reopening the non-tribal whiting fishery based on availability of bycatch species and fishing impacts on protected species through the end of 2007. The Council also considered an inseason adjustment of the widow rockfish bycatch limit for the whiting fishery in order to allow the fishery to reopen. Updated fishery information indicates that the entire coastwide groundfish fishery, including the 241.6 mt of widow rockfish taken in the non-tribal whiting fishery, is projected to take 301.9 mt of widow rockfish through the end of the year. This leaves 66.1 mt of the 368-mt OY available to provide additional groundfish fishing opportunity in 2007. The Council considered an increase in the widow rockfish bycatch limit for the non-tribal whiting fishery to 275 mt, resulting in 32.7 mt of widow rockfish projected to remain unharvested through 2007. Widow rockfish is primarily taken as bycatch in the whiting fisheries.

The whiting fishery exceeded their initial 2007 bycatch limit for widow rockfish of 220 mt by 21.6 mt. This is likely due to several factors, including: fishing effort increased during the period when fishery participants knew that the fishery was nearing the widow rockfish bycatch limit; some final landings data were delayed, which caused a delay in the total catch estimates that should have closed the fishery earlier; and, the bycatch limit for widow rockfish was set too low to accommodate the 2007 whiting OY because the bycatch rate of widow rockfish in 2007 was higher than projected at the beginning of the year, likely due to the widow rockfish stock rebuilding while the whiting stock is in a period of decline. Therefore, at its September meeting, the Council purposefully recommended setting the widow rockfish bycatch limit well under the amount of widow rockfish estimated to be available through the end of 2007. In order to ensure more timely data reporting from the shore-based sector when the fishery reopened, the Council also recommended delaying reopening of the whiting fishery until after the new catch accounting requirements went into effect for whiting processors on October 5, 2007 (72 FR 50906). This new regulation requires first receivers of whiting deliveries of 4,000 lb (XXX kg) or more to submit catch reports to the Pacific States Marine Fish Commission within 24 hours of landing. Prior to this rulemaking, NMFS had no regulations in place to delineate a time frame in which reports should be received by fishery managers.

At its September meeting, the Council also addressed concerns with availability of canary rockfish if the whiting fishery were to reopen under the higher widow rockfish bycatch limit. The whiting fishery had closed with 0.7 mt available in the canary rockfish bycatch limit, and an increase in this bycatch limit was not considered by the Council due to limited availability of canary rockfish from other fisheries. If the whiting fishery were reopened under the same management measures that were in place earlier in the year, approximately 1.7 mt of canary rockfish would be estimated to be taken if the entire remaining 2007 whiting OY were caught, exceeding the canary rockfish bycatch limit of 4.7 mt by 1 mt. The Council discussed reopening the whiting fishery seaward of a line approximating the 150-fm (274-m) depth contour to reduce the impacts on canary rockfish, which are strongly associated with shelf habitat in depths shoreward of 150 fm (274 m), and to keep the total catch of canary rockfish within the bycatch limit of 4.7 mt. Estimates show that if the entire remaining whiting OY were prosecuted seaward of 150 fm (274 m), the canary rockfish catch would be 4.7 mt, equivalent to the 2007 bycatch limit.

Shifting all of the non-tribal whiting fishery effort seaward of a line approximating the 150-fm (274-m) depth contour is expected to increase impacts on darkblotched rockfish; however, the whiting fishery has only taken 12.8 mt of the 25-mt darblotched rockfish bycatch limit, or 51 percent, while they have taken 76 percent of the 2007 non-tribal whiting allocation. If all of the fisheries that are anticipated to take darkblotched rockfish reach their projected take for 2007, including the 25-mt bycatch limit for darkblotched rockfish in the non-tribal whiting fishery, there would be 37.7 mt of darkblotched rockfish projected to remain unharvested through 2007.

A depth-based closure is not a routine management measure for the whiting fishery; therefore, a closure shoreward of the line approximating the 150-fm (274-m) depth contour cannot be implemented via inseason action. The shore-based sector operates in the non-tribal whiting primary season under an exempted fishing permit (EFP). A second 2007 EFP will be issued to each participant in the shore-based fishery qualified to fish in the reopening of the fishery. The new EFP must be signed and returned to NMFS NWR prior to participation in the fishery, and will require that the vessel fish seaward of a line approximating the 150-fm (274-m) depth contour. Although a depth-based closure cannot be imposed on the mothership or catcher-processor sector via timely regulation or EFP, these sectors have agreed to fish seaward of a line approximating the 150-fm (274-m) depth contour. On several past occasions, these fleets have successfully taken similar voluntary action to constrain their bycatch of overfished groundfish species or salmon.

The Council considered possible dates that could be set for reopening the non-tribal whiting fishery. The Council agreed that reopening the fishery as quickly as possible would be beneficial for several reasons, particularly: aggregations of whiting will begin to disperse later in the year, potentially causing increased bycatch rates for non-whiting species, and; increasing the danger of operating in less favorable late autumn weather. Based on their discussion of the October 5, 2007 implementation of the first receiver reporting rule, described above, the Council recommended reopening the fishery as close as possible to October 5, 2007. Subsequent Council discussions also highlighted the benefits to the data-reporting structure for this fishery of reopening on a Sunday or a Monday to shorten the lag time between when the fishery reopens and when managers have access to fishery data.

Based on Council recommendations and discussions, NMFS is implementing: (1) an increase in the 2007 non-tribal whiting widow rockfish bycatch limit from 220 mt to 275 mt; (2) re-opening the 2007 non-tribal whiting primary season for the catcher-processor, mothership, and shore-based sectors at 0800 l.t. on Sunday, October 7, 2007 and restricting of the shore-based sector to fishing seaward of a line approximating the 150-fm (274-m) depth contour through the EFP.

Classification

These actions are taken under the authority of 50 CFR 660.370(c) and are exempt from review under Executive Order 12866.

These actions are authorized by the Pacific Coast groundfish FMP and its implementing regulations, and are based on the most recent data available. The aggregate data, upon which these actions are based, are available for public inspection at the Office of the Administrator, Northwest Region, NMFS, (see ADDRESSES) during business hours.

For the following reasons, NMFS finds good cause to waive prior public notice and comment on the revisions to the 2007 groundfish management measures under 5 U.S.C. 553(b)(3)(B) because notice and comment would be impracticable and contrary to the public interest. Also for the same reasons, NMFS finds good cause to waive part of the 30-day delay in effectiveness pursuant to 5 U.S.C. 553(d)(1) and 5 U.S.C. 553(d)(3).

The data upon which these recommendations were based was provided to the Council and the Council made its recommendations at its September 10-14, 2007, meeting in Portland, OR. There was not sufficient time after that meeting to draft this notice and undergo proposed and final rulemaking before these actions need to be in effect. For the actions to be implemented in this notice, affording the time necessary for prior notice and opportunity for public comment would be impractical and contrary to the public interest because it would prevent the Agency from managing fisheries using the best available science to approach without exceeding the OYs for Federally managed species. The adjustments to management measures in this document affect commercial and recreational groundfish fisheries off Washington, Oregon, and California.

Changes to the limited entry trawl RCA must be implemented as quickly as possible to allow fishing opportunities that had been restricted earlier in the year. Changes to the trawl RCA made in April 2007, restricted fishing effort in areas of high canary rockfish bycatch rates. Catch of canary rockfish by research vessels was much lower than predicted over the summer months, and there is canary rockfish available for harvest in groundfish fisheries that take canary rockfish incidentally. It would be contrary to the public interest to wait to implement this RCA revision until after public notice and comment, because making this regulatory change as soon as possible relieves a regulatory restriction for fisheries that are important to coastal communities.

Changes to the cumulative limits in the non-whiting commercial fisheries must be implemented in a timely manner to relieve a restriction by allowing fishermen increased opportunities to harvest available healthy stocks. Changes to cumulative limits for the following stocks must be implemented in a timely manner as close as possible to October 1, 2007: (1) sablefish, longspine thornyhead, shortspine thornyhead, Dover sole, other flatfish, and slope rockfish in the limited entry trawl fishery; and (2) shortspine thornyheads in the limited entry fixed gear fishery. In the limited entry trawl fishery, changes to the petrale sole cumulative limits must be implemented in a timely manner by November 1, 2007. These changes allow fishermen an opportunity to harvest higher trip limits for stocks with catch tracking behind their projected 2007 catch levels. All of these cumulative limit changes are within projected mortality for overfished species. All of these actions provide increased trip limits; therefore, it would be contrary to the public interest to fail to relieve the current restrictions in a timely manner.

Changes to the non-tribal whiting widow rockfish bycatch limit must be implemented and the non-tribal fishery must be reopened on or as soon as possible after October 7, 2007, to relieve a restriction by allowing fishermen increased opportunities to harvest available healthy stocks. It would be contrary to the public interest to wait to implement these changes until after public notice and comment, because making this regulatory change by October 7 relieves a regulatory restriction for fisheries that are important to coastal communities. Currently, 24 percent, or 50,055 mt (110,352,385 lb) of the non-tribal whiting allocation remains unharvested. The current price of Pacific whiting dockside is $0.08 per pound, resulting in approximately $8,828,191 of whiting available for harvest. The whiting fishery contributes a large amount of revenue to the coastal communities of Washington and Oregon, and leaving this portion of the whiting OY unharvested sacrifices millions of dollars and hundreds of jobs for fishermen and coastal communities. Projected effects of reopening the non-tribal whiting fishery and increasing the non-tribal whiting widow rockfish bycatch limit are within projected mortality for overfished species and other groundfish species. Failing to increase the non-tribal whiting widow rockfish bycatch limit and reopen the non-tribal fishery in a timely manner would result in unnecessary restriction of fisheries that are important to coastal communities and is therefore contrary to the public interest.

Changes to the Oregon recreational fishery must be implemented as quickly as possible in order to conform to existing Oregon state regulations and to keep recreational harvest within Oregon state harvest limits. Changes to the California recreational fishery must be implemented as quickly as possible in order to conform to upcoming California State regulations and to reduce the risk of further exceeding the harvest guideline and the risk of exceeding OYs. Without action, California's state harvest limits for canary, yelloweye and minor shelf rockfish were projected to be exceeded based on updated information as of September 10, 2007. CDFG will close recreational fisheries for all groundfish species subject to bag limits between 42° N. lat. and 37°11′ N. lat. beginning October 1, 2007. Even with this closure, projected impacts to canary, yelloweye, and minor nearshore rockfish could still exceed the harvest guidelines, and failing to take conforming action would risk additional recreational catches of canary, yelloweye, and minor nearshore rockfish in Federal waters, which could further exceed the harvest guideline and risk exceeding the OYs for these species.

Delaying these changes would keep management measures in place that are not based on the best available data, which could risk fisheries exceeding their OY, or deny fishermen access to available harvest. Such delay would impair achievement of one of the Pacific Coast Groundfish FMP objectives of providing for year-round harvest opportunities or extending fishing opportunities as long as practicable during the fishing year.

List of Subjects in 50 CFR Part 660

Fisheries, and Fishing.

Dated: September 28, 2007.
Emily H. Menashes,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq.

2. In § 660.373 paragraph (b)(4) is revised to read as follows:

§ 660.373 Pacific whiting (whiting) fishery management.

(b) * * *

(4) Bycatch limits in the whiting fishery. The bycatch limits for the whiting fishery may be used inseason to close a sector or sectors of the whiting fishery to achieve the rebuilding of an overfished or depleted stock, under routine management measure authority at § 660.370(c)(1)(ii). These limits are routine management measures under § 660.370(c) and, as such, may be adjusted inseason or may have new species added to the list of those with bycatch limits. The whiting fishery bycatch limits for the sectors identified in § 660.323(a) are: 4.7 mt of canary rockfish; 275 mt of widow rockfish; and 25 mt of darkblotched rockfish.

3. In § 660.384 a new sentence is added to paragraph (c)(2)(iii), and paragraphs (c)(3)(ii)(A)(1) and (2), and (c)(3)(iii)(A)(1) and (2) are revised to read as follows:

§ 660.384 Recreational fishery management measures.

(c) * * *

(2) * * *

(iii) * * * From October 1 through December 31, 2007, taking and retaining cabezon is prohibited in all areas by boat anglers.

(3) California. * * *

(ii) * * *

(A) * * *

(1) North of 40°10′ N. lat. (North Region), recreational fishing for the RCG Complex is open from May 1, 2007 through September 30, 2007 (i.e., it′s closed from January 1 through April 30 and from October 1 through December 31, 2007). Recreational fishing for the RCG Complex is open from May 1, 2008 through December 31, 2008.

(2) Between 40°10′ N. lat. and 37°11′ N. lat. (North Central Region), recreational fishing for the RCG Complex is open from June 1, 2007 through September 30, 2007 (i.e., it′s closed from January 1 through May 31 and from October 1 through December 31, 2007). Recreational fishing for the RCG Complex is open from June 1, 2008 through November 30, 2008 (i.e., it′s closed from January 1 through May 31 and from December 1-31, 2008).

(iii) * * *

(A) * * *

(1) North of 40°10′ N. lat. (North Region), recreational fishing for lingcod is open from May 1 through September 30, 2007 (i.e., it′s closed from January 1 through April 30 and from October 1 through December 31, 2007). Recreational fishing for lingcod is open from May 1, 2008 through November 30, 2008 (i.e., it′s closed from January 1 through April 30 and from December 1 31, 2008).

(2) Between 40°10′ N. lat. and 37°11′ N. lat. (North Central Region), recreational fishing for lingcod is open from June 1, 2007 through September 30, 2007 (i.e., it′s closed from January 1 through May 31 and from October 1 through December 31, 2007). Recreational fishing for lingcod is open from June 1, 2008 through November 30, 2008 (i.e., it′s closed from January 1 through May 31 and from December 1 31, 2008).

4. Tables 3 (North), 3 (South), and 4 (South) to part 660 subpart G are revised to read as follows.

BILLING CODE 3510-22-S

[FR Doc. 07-4917 Filed 10-1-07; 2:16 pm]

BILLING CODE 3510-22-C